DEPARTMENT OF HOMELAND SECURITY

Coast Guard

33 CFR Part 117

[Docket No. USCG-2011-0481]

Drawbridge Operation Regulations; Long Island, New York Inland Waterway From East Rockaway Inlet to Shinnecock Canal, Nassau, NY

AGENCY: Coast Guard, DHS.

ACTION: Notice of temporary deviation from regulations.

SUMMARY: The Commander, First Coast Guard District, has issued a temporary deviation from the regulation governing the operation of the Long Beach Bridge at mile 4.7, across Reynolds Channel at Nassau, New York. The deviation is necessary to facilitate public safety for a public event. This deviation allows the bridge to remain in the closed position for two hours.

DATES: This deviation is effective from 10 p.m. on June 25, 2011, through 11:59 p.m. on June 26, 2011.

ADDRESSES: Documents mentioned in this preamble as being available in the docket are part of docket USCG-2011-0481 and are available online at http://www.regulations.gov, inserting USCG-2011-0481 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Judy Leung-Yee, Project Officer, First Coast Guard District, judy.k.leung-yee@uscg.mil, or telephone (212) 668-7165. If you have questions on viewing the docket, call Renee V. Wright, Program Manager, Docket Operations, telephone 202-366-9826.

SUPPLEMENTARY INFORMATION: The Long Beach Bridge, across Reynolds Channel at mile 4.7, at Nassau, New York, has a vertical clearance in the closed position of 20 feet at mean high water and 24 feet at mean low water. The drawbridge operation regulations are listed at 33 CFR 117.799(g).

The waterway users are mostly commercial operators.

The owner of the bridge, Nassau County Department of Public Works, requested a temporary deviation from the regulations to facilitate public safety during a public event, the Annual Salute to Veterans Fireworks Display on Saturday June 25, 2011.

Under this temporary deviation the Long Beach Bridge may remain in the closed position between 10 p.m. and 11:59 p.m. on June 25, 2011. In the event of inclement weather on the scheduled date the fireworks display will occur between 10 p.m. and 11:59 p.m. on June 26, 2011. Vessels that can pass under the bridge in the closed position may do so at any time.

The commercial users were notified. No objections were received.

In accordance with 33 CFR 117.35(e), the bridge must return to its regular operating schedule immediately at the end of the designated time period. This deviation from the operating regulations is authorized under 33 CFR 117.35.

Dated: June 8, 2011.
Gary Kassof,
Bridge Program Manager, First Coast Guard District.

[FR Doc. 2011-15352 Filed 6-20-11; 8:45 am]

BILLING CODE 9110-04-P